NATIONAL CREDIT UNION ADMINISTRATION

Sunshine Act Meetings

TIME AND DATE: 10:00 a.m., February 16, 2023.

PLACE: Board Room, 7th Floor, Room 7B, 1775 Duke Street (All visitors must use Diagonal Road Entrance), Alexandria, VA 22314-3428.

STATUS: This meeting will be open to the public.

MATTERS TO BE CONSIDERED:

1. Federal Credit Union Loan Interest Rate Ceiling.

2. NCUA Rules and Regulations, Chartering and Field of Membership.

3. NCUA Rules and Regulations, Cyber Incident Notification Requirements for Federally Insured Credit Unions.

CONTACT PERSON FOR MORE INFORMATION: Melane Conyers-Ausbrooks, Secretary of the Board, Telephone: 703-518-6304.

Melane Conyers-Ausbrooks,
Secretary of the Board.

[FR Doc. 2023-03180 Filed 2-10-23; 11:15 am]

BILLING CODE 7535-01-P